DEPARTMENT OF COMMERCE

National Oceanic and Atmospheric Administration

RIN 0648-XD031

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Herring Committee on January 14, 2014 to consider actions affecting New England fisheries in the exclusive economic zone (EEZ). Recommendations from this group will be brought to the full Council for formal consideration and action, if appropriate.

DATES: This meeting will be held on Tuesday, January 14, 2014 at 9:30 a.m.

ADDRESSES: Meeting address: The meeting will be held at the Sheraton Harborside Portsmouth, 250 Market Street, Portsmouth, NH 03801; telephone: (603) 431-2300; fax: (603) 433-5649.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Committee will begin development of a range of alternatives for Framework 4 to the Atlantic Herring FMP; Framework 4 will address some disapproved elements of Amendment 5, including provisions related to net slippage and dealer weighing requirements; the Committee will develop recommendations. The Committee will also discuss development of NMFS Omnibus Amendment to address industry-funded monitoring, review the range of alternatives, and develop related recommendations. The Committee will discuss a timeline for Framework 4, the omnibus industry-funded amendment and other 2014 herring management priorities. Other business may be discussed as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at 978-465-0492, at least 5 days prior to the meeting date.

Authority: 16 U.S.C. 1801 et seq.

Dated: December 13, 2013.
Tracey L. Thompson,
Acting Deputy Director, Office of Sustainable Fisheries, National Marine Fisheries Service.

[FR Doc. 2013-30076 Filed 12-17-13; 8:45 am]

BILLING CODE 3510-22-P